DEPARTMENT OF AGRICULTURE

Forest Service

Locatable Minerals

AGENCY: Forest Service, USDA.

ACTION: Notice of intent to prepare an environmental impact statement.

SUMMARY: The U.S. Department of Agriculture (USDA) is initiating an environmental impact statement to inform a decision to revise agency regulations that minimize adverse environmental impacts on National Forest System surface resources in connection with operations authorized by the Mining Law of 1872, as amended (United States mining laws). These rules and procedures govern prospecting, exploration, development, mining, and processing operations conducted on National Forest System lands authorized by the United States mining laws, subsequent reclamation of the land, and any necessary long-term post-closure resource management.

DATES: An advanced notice of proposed rulemaking was published in the Federal Register, Vol. 83, No. 178, Thursday, September 13, 2018. The Forest Service invited comments regarding challenges the public has experienced with respect to aspects of the agency's current regulations at 36 CFR 228, subpart A, and issues the public foresees with respect to potential revision of these regulations. Comments were due October 15, 2018. The proposed rule and draft environmental impact statement are expected in 2020. The next public comment period will be announced when the proposed rule and draft environmental impact statement are available.

FOR FURTHER INFORMATION CONTACT: Sarah Shoemaker, Minerals and Geology Management, 907-586-7886, between 8:00 a.m. and 4:00 p.m., Alaska Standard Time, Monday through Friday. Individuals who use telecommunication devices for the deaf (TDD) may call the Federal Information Relay Service (FIRS) at 1-800-877-8339 between 8 a.m. and 8 p.m., Eastern Time, Monday through Friday.

SUPPLEMENTARY INFORMATION:

Purpose and Need for Action

The goals of the regulatory revision are to: (1) Increase Forest Service efficiency in the review of certain proposed mineral operations authorized by the United States mining laws, and, where applicable, Forest Service approval of some of these proposals by clarifying the regulations; (2) increase consistency with the U.S. Department of the Interior, Bureau of Land Management (BLM) surface management regulations governing operations authorized by the United States mining laws, which will eliminate significant differences between the two land management agency's regulations, making it less confusing for those who conduct these operations on both BLM and National Forest System lands; and (3) increase the Forest Service's nationwide consistency in regulating mineral operations authorized by the United States mining laws by clarifying its regulations.

Regulatory revisions are needed to better meet the regulation's purpose: “to set forth the rules and procedures that govern prospecting, exploration, development, mining, and processing operations, and their reasonably incident uses (operations), on National Forest System lands, under the United States mining laws, in order to minimize, to the extent practicable, these operations' adverse impacts to surface resources” (36 CFR 228.1). In addition, these revisions are needed to increase the efficiency of Forest Service review of certain proposed operations authorized by the United States mining laws and, where applicable, Forest Service approval of some of these proposals. Increasing efficiency includes being consistent, within the authorities of each agency, with the BLM surface management regulations governing operations authorized by the United States mining laws to assist those who conduct operations on lands managed by each agency. Increasing efficiency also means to increase the Agency's consistency in implementing the regulations across the agency.

Proposed Action

Revise agency regulations at 36 CFR 228, subpart A that minimize adverse environmental impacts on National Forest System surface resources in connection with operations authorized by the United States mining laws. These rules and procedures govern prospecting, exploration, development, mining, and processing operations conducted on National Forest System lands authorized by U.S. mining laws, subsequent reclamation of the land, and any necessary long-term post-closure resource management.

Possible Alternatives

The existing regulations at 36 CFR 228, subpart A is the no-action alternative.

Responsible Official

Under Secretary of Agriculture for Natural Resources and Environment.

Nature of Decision To Be Made

The decision to be made is whether to revise 36 CFR 228, subpart A; and if so, what provisions should be changed, deleted, and added.

Scoping Process

The scoping process was initiated and comments were solicited with the advanced notice of proposed rulemaking published in the Federal Register, Vol. 83, No. 178, Thursday, September 13, 2018.

Tina J. Terrell,
Associate Deputy Chief, National Forest System.

[FR Doc. 2020-06791 Filed 3-31-20; 8:45 am]

BILLING CODE 3411-15-P